DEPARTMENT OF THE INTERIOR

Fish and Wildlife Service

[FWS-R8-R-2014-N045; FXRS12610800000-145-FF08R00000]

San Diego National Wildlife Refuge, San Diego County, CA; Draft Comprehensive Conservation Plan and Environmental Assessment

AGENCY: Fish and Wildlife Service, Interior.

ACTION: Notice of availability; request for comments.

SUMMARY: We, the U.S. Fish and Wildlife Service (Service), announce the availability of a Draft Comprehensive Conservation Plan (CCP) and Environmental Assessment (EA) for the San Diego National Wildlife Refuge (NWR). The Draft CCP/EA, prepared under the National Wildlife Refuge System Improvement Act of 1997, and in accordance with the National Environmental Policy Act of 1969, describes how the Service proposes to manage the San Diego NWR for the next 15 years. Draft compatibility determinations for existing and future public uses, a draft feral pig monitoring and eradication plan, and a draft integrated pest management plan are also available for review and public comment with the Draft CCP/EA.

DATES: To ensure consideration, we must receive your written comments by August 18, 2014.

ADDRESSES: Send your comments, requests for more information, or requests to be added to the mailing list by any of the following methods.

Email: Victoria_Touchstone@fws.gov. Include “San Diego NWR CCP” in the subject line of the message.

Fax: Attn: Victoria Touchstone, 619-476-9149.

U.S. Mail: Victoria Touchstone, U.S. Fish and Wildlife Service, San Diego NWR Complex, P.O. Box 2358, Chula Vista, CA 91912

In-Person Drop-off: You may drop off comments at the San Diego NWR Complex Office; please call 619-476-9150, extension 103, for directions and access information.

FOR FURTHER INFORMATION CONTACT: Victoria Touchstone, Refuge Planner, at 619-476-9150, extension 103, or Jill Terp, Refuge Manager, at 619-468-9245, extension 226. Further information may also be found at http://www.fws.gov/refuge/San_Diego/what_we_do/planning.html.

SUPPLEMENTARY INFORMATION: The National Wildlife Refuge System Improvement Act of 1997 (16 U.S.C. 668dd-668ee), which amended the National Wildlife Refuge System Administration Act of 1966, requires the Service to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation.

Background

We initiated the CCP/EA for the San Diego NWR in May 2006. At that time and throughout the process, we requested, considered, and incorporated public scoping comments in numerous ways. Our public outreach included a Federal Register notice of intent published on May 24, 2006 (71 FR 29973), two public scoping meetings, three planning updates, and two public use workshops. The scoping comment period ended on July 15, 2006; however, additional input has been solicited from interested stakeholders throughout the planning process. Verbal comments were recorded at public meetings, and written comments have been received via letters, emails, and comment cards.

Refuge History

The San Diego NWR was established in 1996 under the authorities of the Fish and Wildlife Act of 1956, as amended (16 U.S.C. 742(a)-754); Endangered Species Act of 1973, as amended (16 U.S.C. 1531-1544, 87 Stat. 884); and Refuge Recreation Act of 1962, as amended (16 U.S.C. 460k-460k-4). Land acquisition from willing sellers within both the approved 43,860-acre Refuge boundary for the Otay-Sweetwater Unit and the 8,220-acre Vernal Pools Stewardship Project boundary is intended to conserve large contiguous blocks of undisturbed native habitat. As of August 2013, the Refuge included approximately 11,530 acres, with 11,470 acres distributed among several noncontiguous land areas within the Otay-Sweetwater Unit, and an additional 60 acres of vernal pool habitat included within the Del Mar Mesa Vernal Pool Unit.

Refuge Purposes

The primary purposes of the San Diego NWR are to contribute to the recovery of endangered, threatened, and rare species; to support the native biodiversity of the southwestern San Diego Region by contributing to the development of a regional preserve under the San Diego Multiple Species Conservation Program (MSCP); to provide breeding, migration, and wintering habitat for migratory birds; and to provide opportunities for compatible wildlife-dependent recreation. A total of 16 species currently listed as threatened or endangered under the Federal Endangered Species Act (ESA) and/or the California Endangered Species Act (CESA) are known to occur on the Refuge or have occurred there within the last 20 years. Many other species of concern, including at least 35 species covered by the San Diego MSCP, have been documented on the Refuge.

Alternatives

The Draft CCP/EA identifies and evaluates four alternatives for managing the San Diego NWR. The alternative that appears to best meet the Refuge's purposes is identified as the preferred alternative. Identification of the preferred alternative is based on the analysis presented in the draft CCP/EA. The preferred alternative may be modified following the completion of the public comment period, after comments received from other agencies, tribal governments, nongovernmental organizations, and individuals have been reviewed and considered.

Alternative A (No-Action Alternative)

Alternative A (no-action alternative) describes the current management practices that would continue to be implemented over the next 15 years.

Alternative B

Alternative B focuses on maximizing habitat values and species protection. New and expanded wildlife and habitat management actions would be implemented to protect, restore, and enhance habitat values and support listed and sensitive species. The wildlife-dependent recreational uses currently occurring on the Refuge (i.e., wildlife observation, photography, environmental education, interpretation) would be managed to minimize disturbance to plants and wildlife. Public access would be restricted to a designated trail system consisting of both non-motorized multiple use (i.e., equestrian, mountain biking, hiking) trails and hiking-only trails. Unauthorized, user-created trails that contribute to erosion, habitat loss, habitat fragmentation, and species disturbance would be decommissioned. No dogs would be permitted on the Otay-Sweetwater Unit under this alternative.

Alternative C

Alternative C proposes to expand the opportunities for wildlife-dependent recreational uses on the Otay-Sweetwater Unit, while implementing the same wildlife and habitat management activities proposed under Alternative B. Public access would be restricted to the designated trail system, which would be expanded slightly under this alternative. Unauthorized trails would be decommissioned, as described under Alternative B, and all trails within the designated trail system would be open to non-motorized multiple use. Also under Alternative C, interpretive and environmental education programs would be expanded. Hunting, conducted in accordance with refuge-specific regulations, would be permitted on portions of the McGinty Mountain, Las Montañas, and Otay Mesa and Lakes management areas of the Refuge, and dogs would be permitted on the trails, provided they are maintained on a leash.

Alternative D (Preferred Alternative)

Alternative D, the preferred alternative, proposes to optimize species and habitat protection, while expanding opportunities for compatible public use over those currently provided on the Refuge. Under this alternative, in addition to the wildlife and habitat management activities proposed under Alternative B, the Refuge would implement a feral pig monitoring and eradication plan. No feral pigs are currently present on the Refuge, but feral pigs and the damage to resources associated with feral pig activity have been identified in the San Diego region. The initial implementation of this plan by the Refuge would therefore involve monitoring for the presence of pigs, with further action on the Refuge becoming necessary only if pigs are identified on Refuge lands.

Existing interpretive and environmental education programs would be expanded on the Otay-Sweetwater Unit under Alternative C, and hunting for big game (i.e., deer, feral pig), resident small game (i.e., rabbits), and resident and migratory upland game birds (e.g., dove, quail, wild turkey) is proposed, subject to refuge-specific conditions, on a portion of the Otay Mesa and Lakes management area. The designated trail system would consist primarily of non-motorized multiple use trails, with hiking only trails also provided in a few areas; unauthorized trails would be subject to closure. Leashed dogs would only be permitted on those trails designated for multiple use.

Habitat management and public use on the 60-acre Del Mar Mesa Vernal Pool Unit would occur in accordance with the City of San Diego's Carmel Mountain and Del Mar Mesa Preserves Management Plan under all of the action alternatives (i.e., Alternatives B, C, and D).

Public Meetings

The locations, dates, and times of public meetings will be listed in a planning update distributed to the project mailing list and posted on the San Diego NWR public Web site at http://www.fws.gov/refuge/San_Diego/what_we_do/planning.html.

Review and Comment

Copies of the Draft CCP/EA may be obtained by contacting Victoria Touchstone (see ADDRESSES). Copies of the Draft CCP/EA may be viewed at San Diego NWR Complex office (see ADDRESSES for contact information) and local libraries.

The Draft CCP/EA is also available for viewing and downloading online at: http://www.fws.gov/refuge/San_Diego/what_we_do/planning.html. Comments on the Draft CCP/EA should be addressed to Victoria Touchstone (see ADDRESSES).

Public Availability of Comments

Before including your address, phone number, email address, or other personal identifying information in your comment, you should be aware that your entire comment—including your personal identifying information—may be made publicly available at any time. While you can ask us in your comment to withhold your personal identifying information from public review, we cannot guarantee that we will be able to do so.

Next Steps

At the end of the review and comment period for this Draft CCP/EA, comments will be analyzed by the Service and addressed in the Final CCP.

Alexandra Pitts,
Acting Regional Director, Pacific Southwest Region, Sacramento, California.

[FR Doc. 2014-14323 Filed 6-18-14; 8:45 am]

BILLING CODE 4310-55-P